DEPARTMENT OF EDUCATION

National Institute on Disability and Rehabilitation Research—Disability and Rehabilitation Research Projects and Centers Program—Disability Rehabilitation Research Projects (DRRPs); Funding Priority

AGENCY: Office of Special Education and Rehabilitative Services, Department of Education.

ACTION: Notice of final priority.

SUMMARY: The Assistant Secretary for Special Education and Rehabilitative Services announces a final priority for the Disability and Rehabilitation Research Projects and Centers Program administered by the National Institute on Disability and Rehabilitation Research (NIDRR). Specifically, this notice announces a priority for a DRRP on Vocational Rehabilitation (VR): Transition Services that Lead to Competitive Employment Outcomes for Transition-Age Individuals With Blindness or Other Visual Impairments. The Assistant Secretary may use this priority for competitions in fiscal year (FY) 2007 and later years. We take this action to focus research attention on areas of national need. We intend this priority to improve rehabilitation services and outcomes for individuals with disabilities.

Effective Date: This priority is effective November 30, 2006.

FOR FURTHER INFORMATION CONTACT: Donna Nangle, U.S. Department of Education, 400 Maryland Avenue, SW., room 6030, Potomac Center Plaza, Washington, DC 20202-2700. Telephone: (202) 245-7462 or via Internet: donna.nangle@ed.gov.

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

SUPPLEMENTARY INFORMATION:

Disability and Rehabilitation Research Projects (DRRP) Program

The purpose of the DRRP program is to plan and conduct research, demonstration projects, training, and related activities to develop methods, procedures, and rehabilitation technology that maximize the full inclusion and integration into society, employment, independent living, family support, and economic and social self-sufficiency of individuals with disabilities, especially individuals with the most severe disabilities, and to improve the effectiveness of services authorized under the Rehabilitation Act of 1973, as amended. DRRPs carry out one or more of the following types of activities, as specified and defined in 34 CFR 350.13 through 350.19: Research, development, demonstration, training, dissemination, utilization, and technical assistance.

An applicant for assistance under this program must demonstrate in its application how it will address, in whole or in part, the needs of individuals with disabilities from minority backgrounds (34 CFR 350.40(a)). The approaches an applicant may take to meet this requirement are found in 34 CFR 350.40(b). In addition, NIDRR intends to require all DRRP applicants to meet the requirements of the General Disability and Rehabilitation Research Projects (DRRP) Requirements priority that it published in a notice of final priorities in the Federal Register on April 28, 2006 (71 FR 25472).

Additional information on the DRRP program can be found at: http://www.ed.gov/rschstat/research/pubs/res-program.html#DRRP.

We published a notice of proposed priorities (NPP) for NIDRR's Disability and Rehabilitation Research Projects and Centers Program, including the DRRP program, in the Federal Register on June 7, 2006 (71 FR 32938). The NPP included a background statement that described our rationale for the priority proposed in that notice.

There are no differences between the NPP and this notice of final priority (NFP).

Analysis of Comments and Changes

In response to our invitation in the NPP, five parties submitted comments on the proposed priority addressed in this NFP. An analysis of the comments follows.

Generally, we do not address technical and other minor changes, or suggested changes the law does not authorize us to make under the applicable statutory authority. In addition, we do not address general comments that raised concerns not directly related to the proposed priority.

Comment: Four commenters expressed concern that the duration and the level of funding for the proposed DRRP may not be adequate to address the research activities proposed under the priority.

Discussion: Although the funding level and the budget period were not addressed in the NPP, and are not subject to public comment, the Department is confident that the proposed funding level and budget period are reasonable.

Changes: None.

Comment: One commenter commended the U.S. Department of Education on its succinct synthesis of the problem, as well as its establishment of a priority for a DRRP that would research transition-age individuals with visual impairments. The commenter also suggested that the following additional issues should be considered for research and examination under the final priority: (1) The vital role of career education in the academic preparation of youths with visual disabilities; (2) The factors leading to disparities between postsecondary achievement and low employment outcomes of youth and young adults with blindness and other visual impairments; (3) The barriers to collaboration among service providers serving youth and young adults with blindness and other visual impairments and the impact of this disconnect on successful transition outcomes; (4) The factors contributing to successful adult outcomes, including orientation and mobility skills, socialization and independent living skills, and training in the use of materials in appropriate alternate media, such as Braille and new accessible information technologies; (5) The role of parents' attitudes and involvement in the transition process; and (6) Job-seeking strategies and the development of competitive employment skills.

Discussion: NIDRR agrees with the commenter that each of the above issues is relevant to the scope of work of the proposed DRRP. Nothing in the proposed priority would preclude an applicant from proposing research that examines any or all of the issues listed by the commenter. However, NIDRR does not believe that it is appropriate to require all applicants to focus their research on one or all of these issues. The peer reviewers will assess the merits of research proposals submitted.

Changes: None.

Note: This notice does not solicit applications. In any year in which we choose to use this priority, we invite applications through a notice in the Federal Register. When inviting applications we designate the priority as absolute, competitive preference, or invitational. The effect of each type of priority follows:

Absolute priority: Under an absolute priority, we consider only applications that meet the priority (34 CFR 75.105(c)(3)).

Competitive preference priority: Under a competitive preference priority, we give competitive preference to an application by either (1) awarding additional points, depending on how well or the extent to which the application meets the competitive preference priority (34 CFR 75.105(c)(2)(i)); or (2) selecting an application that meets the competitive preference priority over an application of comparable merit that does not meet the priority (34 CFR 75.105(c)(2)(ii)).

Invitational priority: Under an invitational priority, we are particularly interested in applications that meet the invitational priority. However, we do not give an application that meets the invitational priority a competitive or absolute preference over other applications (34 CFR 75.105(c)(1)).

Note: This NFP is in concert with President George W. Bush's New Freedom Initiative (NFI) and the Plan. The NFI can be accessed on the Internet at the following site: http://www.whitehouse.gov/infocus/newfreedom

The Plan, which was published in the Federal Register on February 15, 2006 (71 FR 8165), can be accessed on the Internet at the following site: http://www.ed.gov/about/offices/list/osers/nidrr/policy.htm

.

1. Through the implementation of the NFI and the Plan, NIDRR seeks to—(1) Improve the quality and utility of disability and rehabilitation research; (2) Foster an exchange of expertise, information, and training to facilitate the advancement of knowledge and understanding of the unique needs of traditionally underserved populations; (3) Determine best strategies and programs to improve rehabilitation outcomes for underserved populations; (4) Identify research gaps; (5) Identify mechanisms of integrating research and practice; and (6) Disseminate findings.

Priority

The Assistant Secretary for Special Education and Rehabilitative Services establishes a priority for a DRRP on VR: Transition Services that Lead to Competitive Employment Outcomes for Transition-Age Individuals With Blindness or Other Visual Impairments. Under this priority, the project must be designed to contribute to the following outcomes:

(a) Increased knowledge about factors that influence vocational rehabilitation and/or transition outcomes and contribute to the acquisition of skills that correlate with sustained competitive employment and postsecondary success for transition-age individuals with blindness or other visual impairments. The grantee must: (1) Conduct a comprehensive literature review of research in the area of VR transition services that lead to successful employment outcomes for transition-age individuals with blindness or other visual impairments; (2) conduct a preliminary analysis of the Rehabilitation Services Administration (RSA) 911 Case Service Report data and other appropriate data sets to identify all pertinent information related to transition services for individuals with blindness or other visual impairments; and (3) examine factors that affect employment outcomes including the types of transition services provided by VR; the types of transition services provided by special education, if any; the age of the transitioning student at the time of first contact with VR; the amount of interaction the transitioning student has with VR prior to leaving school; the relationship the transition-age individual has with the VR counselor; the transition-age individual's early employment history; the transition-age individual's dependence on Social Security Administration (SSA) benefits; and the transition-age individual's socio-economic factors. In implementing item (3), the grantee must review VR case records from State VR agencies for the blind and State VR combined agencies, and interview consumers, rehabilitation professionals, teachers, postsecondary support service providers, SSA representatives, and other individuals involved in providing transition services.

(b) Improved outcomes for individuals who are blind or visually impaired. Through development, demonstration, and evaluation of intervention methods, the grantee must identify practices that support and lead to improved outcomes for transition-age individuals with blindness or other visual impairments, including outcomes in workforce participation, competitive employment, or other areas of postsecondary success. The grantee should include activities that facilitate development of skills that lead to employment (critical thinking and problem-solving skills, and personal qualities). Grantees must utilize a rigorous (e.g., experimental or quasi-experimental) design.

(c) Dissemination of research findings to State VR agencies, education agencies, consumers, researchers, and other stakeholders.

(d) Coordination with projects sponsored by NIDRR, RSA, and the Office of Special Education Programs to ensure that research conducted under this priority builds on rather than duplicates related research and to ensure effective dissemination strategies. At a minimum, the grantee must coordinate with the NIDRR Rehabilitation Research and Training Center (RRTC) on Measuring Rehabilitation Outcomes and current RSA-sponsored research on related topics (including the post-VR experiences study and the national study of transition policies and practices in State VR agencies, and other relevant projects).

Executive Order 12866

This NFP has been reviewed in accordance with Executive Order 12866. Under the terms of the order, we have assessed the potential costs and benefits of this regulatory action.

The potential costs associated with this NFP are those resulting from statutory requirements and those we have determined as necessary for administering this program effectively and efficiently.

In assessing the potential costs and benefits—both quantitative and qualitative—of this NFP, we have determined that the benefits of the final priority justify the costs.

Summary of Potential Costs and Benefits

The potential costs associated with this final priority are minimal while the benefits are significant. Grantees may incur some costs associated with completing the application process in terms of staff time, copying, and mailing or delivery. The use of e-Application technology reduces mailing and copying costs significantly.

The benefits of the Disability and Rehabilitation Research Projects and Centers Programs have been well established over the years in that similar projects have been completed successfully. This final priority will generate new knowledge and technologies through research, development, dissemination, utilization, and technical assistance projects.

Another benefit of this final priority is that the establishment of a new DRRP will support the President's NFI and will improve the lives of persons with disabilities. The new DRRP will generate, disseminate, and promote the use of new information that will improve the options for individuals with disabilities.

Applicable Program Regulations: 34 CFR part 350.

Electronic Access to This Document

You may view this document, as well as all other Department of Education documents published in the Federal Register, in text or Adobe Portable Document Format (PDF) on the Internet at the following site: www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: www.gpoaccess.gov/nara/index.html.

(Catalog of Federal Domestic Assistance Number 84.133A, Disability Rehabilitation Research Projects)

Program Authority: 29 U.S.C. 762(g) and 764(a).

Dated: October 24, 2006.
John H. Hager,
Assistant Secretary for Special Education and Rehabilitative Services.

[FR Doc. E6-18192 Filed 10-30-06; 8:45 am]

BILLING CODE 4000-01-P